FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier

Ocean Transportation Intermediary Applicants:

King Freight (USA), Inc., 12412 Felson Place, Cerritos, CA 90703. Officers: Una Wang, Vice President (Qualifying Individual) Loong-Hsiun Chang, CEO/Director

Hub Freight USA Inc., 548 S. Cherry Street, Itasca, IL 60143. Officer: Robert A. Posta, President (Qualifying Individual)

Non-Vessel-Operating Common Carrier and Ocean Freight Forwarder Transportation Intermediary Applicants:

YFE Worldwide Logistics Inc., 1901 East Linden Ave., Suite 11, 12 and 14, Linden, NJ 07036. Officer: Harry Sandovnik, President (Qualifying Individual)

Global Freightway (USA), Ltd., 840 W. 12th Street, Long Beach, CA 90813. Kenneth Bola Obatusin Sole Proprietor

Stella International, Inc., 961 Laurel Street, #200, San Carlos, CA 94070. Officers: Guy Perego, President (Qualifying Individual) Marla Perego, Secretary

Pan America Marine Services, 651 West Homestead Road, No. 3, Sunnyvale, CA 94087. Officer: Geme Yang, CEO (Qualifying Individual)

United Logistics Services, Inc., 11017 NW 122 Street, Suite 17, Medley, FL 33178. Officer: Julio Osorio, President (Qualifying Individual)

Nu-Born Express, Inc., 222 E. Redondo Beach Blvd., Suite H, Gardena, CA 90248. Officers: Carlos Sanchez, Treasurer (Qualifying Individual) Matthew Osman, President

Transport Team USA, Inc., 1050 Wall Street West, Suite 201, Lyndhurst, NJ 07071. Officer: Jose Antonio Alvarez, President (Qualifying Individual)

Ocean Freight Forwarder—Ocean Transportation Intermediary Applicants:

Genesis Freight Forwarding Services TX, Inc., dba Genesis Container Lines, 15905 Morales Road, Bldg. L, #300, ouston, TX 77032. Officers: Michael Andersen, Vice President (Qualifying Individual) Dugald F. Currie, President

Genesis Forwarding Services CA, Inc., dba Genesis Container Lines, 800 Hindry Avenue, Units B-D, nglewood, CA 90301. Officers: Michael Andersen, Vice President (Qualifying Individual) Dugald F. Currie, President

Genesis Forwarding Services IL, Inc., dba Genesis Container Lines, 2601-2605 Greenleaf, Elk Grove Village, IL 60604. Officers: Michael Andersen, Vice President (Qualifying Individual) Dugald F. Currie, President

Genesis Forwarding Services NY, Inc., dba Genesis Container Lines, 145th Hook Creek Blvd., Valley Stream, NY 11581. Officers: Michael Andersen, Vice President (Qualifying Individual) Dugald F. Currie, President

Genesis Forwarding Services VA, Inc., dba Genesis Container Lines, 22650 Executive Drive, Suite 122, Sterling, VA 20166. Officers: Michael Andersen, Vice President (Qualifying Individual) Dugald F. Currie, President

Ghanem Forwarding LLC, 150 N. Main Street, Concord, NH 03301. Officer: Wael Y. Ghenem, General Manager (Qualifying Individual)

Dated: April 28, 2006.
Karen V. Gregory,
Assistant Secretary.

[FR Doc. E6-6696 Filed 5-2-06; 8:45 am]

BILLING CODE 6730-01-P